DEPARTMENT OF HOUSING AND URBAN DEVELOPMENT

[Docket No. FR-5907-N-27]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Air Force: Mr. Robert E. Moriarty, P.E., AFCEC/CI, 2261 Hughes Avenue, Ste. 155, JBSA Lackland TX 78236-9853; GSA: Mr. Flavio Peres, General Services Administration, Office of Real Property Utilization and Disposal, 1800 F Street NW., Room 7040 Washington, DC 20405, (202) 501-0084; Interior: Mr. Michael Wright, Acquisition & Property Management, Department of the Interior, 3960 N. 56th Ave. #104, Hollywood, FL 33021; (443) 223-4639; Navy: Mr. Steve Matteo, Department of the Navy, Asset Management Division, Naval Facilities Engineering Command, Washington Navy Yard, 1330 Patterson Ave. SW., Suite 1000, Washington, DC 20374; (202) 685-9426 (These are not toll-free numbers).

Dated: June 23, 2016.
Brian P. Fitzmaurice,
Director, Division of Community Assistance, Office of Special Needs Assistance Programs.

TITLE V, FEDERAL SURPLUS PROPERTY PROGRAM FEDERAL REGISTER REPORT FOR 07/01/2016

Suitable/Available Properties

Building

Arkansas

Former Eaker AFB Recreational Property

630 Lansing Street

Blytheville AR 72315

Landholding Agency: GSA

Property Number: 54201620026

Status: Excess

GSA Number: 7-GR-AR-0582

Comments: 45+ yrs. old; 36,000 sq. ft.; recreational; building is in disrepair; accessible by appointment only; sits on 48.73 fee acres; contact GSA for more information.

California

T1 Bar Single Wide Mobile Home

Property #2752

Somes Bar CA 95568

Landholding Agency: Agriculture

Property Number: 15201620043

Status: Unutilized

Directions: Siskiyou County along State HWY 96 Near Somes Bar; RP# 4981004 CN# 1331.003771 UAI# 1102050581004

Comments: off-site removal only; 35+ yrs. old; 717 sq. ft.; residence; 18+ mos. vacant; poor condition; contact Agriculture for more information.

Oak Bottom Single Wide Mobile

Home Property #02-2700

Somes Bar CA

Landholding Agency: Agriculture

Property Number: 15201620044

Status: Unutilized

Directions: Siskiyou County along the Salmon River Road Near Somes Bar; RP# 4980023 CN# 1375.003771 UAI# 1102050580023

Comments: off-site removal only; 42+ yrs. old; 717 sq. ft.; residence; 18+ mos. vacant; poor condition; contact Agriculture for more information.

Cima Mobile Home

Mojave National Preserve

Cima CA 92323

Landholding Agency: Interior

Property Number: 61201620013

Status: Excess

Comments: off-site removal only; 34+ yrs. old; 1,345 sq. ft.; residential; 3+ months vacant; extensive water damage; prior approval needed to gain access; contact Interior for more information.

Louisiana

Baton Rouge Depot

2695 North Sherwood Forest Drive

Baton Rouge LA 70814

Landholding Agency: GSA

Property Number: 54201620025

Status: Surplus

GSA Number: 7-G-LA-0523-AH

Directions: Baton Rouge Depot building's (Building 74—20,000 sq. ft.; Building 28—20,000 sq. ft., Building 70—2,312 sq. ft.)

Comments: 67+ yrs. old; 42,312 total sq. ft.; warehouse, storage; 8+ mos. vacant; sits on 128.50 acres of land; contact GSA for more information.

Massachusetts

3 Buildings

Nauset Light Beach Road, off Ocean View Drive

Eastham MA 02667

Landholding Agency: Interior

Property Number: 61201620014

Status: Excess

Directions: Nauset Light Beach Bathhouse (1,620 sq. ft.); Changing Room #1 & #2 (290 sq. ft. each)

Comments: off-site removal only; 30+ yrs. old; sq. footage above; bathhouse, changing rooms; 1 mo. vacant; good condition; prior approval needed to gain access; contact Interior for more information.

Nebraska

R0328001100B

71378 Road 44B

Trenton NE 69044

Landholding Agency: Interior

Property Number: 61201620017

Status: Unutilized

Comments: off-site removal only; no future agency need; 64+ yrs.-old; 229 sq. ft.; storage; 15+ months vacant; poor condition; contact Interior for more information.

Virginia

3 Buildings

226 Claven Lane

Middletown VA 22645

Landholding Agency: Interior

Property Number: 61201620016

Status: Excess

Directions: Tract 02-175—Farmhouse (1,200 sq. ft.); Tract 02-175—Barn (1,200 sq. ft.); Tract 02-175—Garage (800 sq. ft.)

Comments: off-site removal 30+ & 80+ yrs. old; residential; stables; storage; 8+ yrs. vacant; farmhouse needs extensive work; barn in poor condition; garage in fair condition; contact Interior for more info.

Washington

Chinook Pass Work Center

07672 00

17137 Washington 410; located at MP 100

Naches WA 98937

Landholding Agency: Agriculture

Property Number: 15201620045

Status: Unutilized

Directions: 2317 (2055.005511); 1835 (1162.005511); 2675 (61230010700); 1020 (1099.005511)

Comments: off-site removal only; no future agency need; good to poor conditions; sq. ft. varies; contact Agriculture for more info. details on a specific property.

White Pass Work Center

07672 00

31381 Hwy 12; located at MP 17 from 410/12 junction

Naches WA 98937

Landholding Agency: Agriculture

Property Number: 15201620046

Status: Unutilized

Directions: 2251 (1126.005511); 2250 (1125.005511); 2311 (1117.005511); 2350 (1127.005511); 2450 (1129.005511)1402 (1946010416); 1351 (1113.005511); 2313 (1119.005511); 1052 (1104.005511); 2312 (1118.005511)

Comments: off-site removal only; no future agency need; poor conditions; sq. ft. varies; contact Agriculture for more details on a specific property.

Wisconsin

FM Repeater Station Install.#3

Sec. 26, T. 9N, R 6W

Lynxville WI 54626

Landholding Agency: GSA

Property Number: 54201540003

Status: Excess

GSA Number: 1-D-WI-622

Directions: Land Holding Agency: COE; Disposal Agency: GSA

Comments: CORRECTION from June 24 FR: Property is suitable and unavailable; reason: Advertised for sale; 50+ yrs. old; 80 sq. ft.; storage; average condition; contact GSA for more information.

Unsuitable Properties

Building

California

Bus Shelter

311 Main St (Bldg. PM1-837)

Point Mugu CA 93043

Landholding Agency: Navy

Property Number: 77201620028

Status: Unutilized

Comments: public access denied and no alternative method to gain access without compromising national security.

Reasons: Secured Area

Administrative Office

311 Main St (Bldg. 41SNI)

Point Mugu CA 93043

Landholding Agency: Navy

Property Number: 77201620029

Status: Unutilized

Comments: public access denied and no alternative method to gain access without compromising national security.

Reasons: Secured Area

Florida

Bldg. 5008 AAFES Shoppette

6901 Hwy 98

Tyndall AFB FL

Landholding Agency: Air Force

Property Number: 18201620045

Status: Unutilized

Comments: property located within military airfield.

Reasons: Within airport runway clear zone

Bldg. 5007 AAFES Storage

6903 Hwy 98

Tyndall AFB FL 32403

Landholding Agency: Air Force

Property Number: 18201620046

Status: Unutilized

Comments: property located in military airfield.

Reasons: Within airport runway clear zone

New Jersey

Building 603

3 Miles from the entrance of the park inside of lot D

Highlands NJ 07732

Landholding Agency: Interior

Property Number: 61201620012

Status: Excess

Comments: property located within floodway which has not been correct or contained. Documented deficiencies: structural damage due to Superstorm Sandy; unsound foundation; clear threat to physical safety.

Reasons: Extensive deterioration; Floodway

New Mexico

Bldg. 202

207 Phoenix Ave.

Cannon AFB NM

Landholding Agency: Air Force

Property Number: 18201620047

Status: Unutilized

Comments: public access denied and no alternative to gain access without compromising national security.

Reasons: Secured Area

Bldg. 772

109 E Albright Ave.

Cannon AFB NM

Landholding Agency: Air Force

Property Number: 18201620048

Status: Unutilized

Comments: public access denied and no alternative without compromising national security.

Reasons: Secured Area

Bldg. 211

108 N. Aderholt Loop

Cannon AFB NM

Landholding Agency: Air Force

Property Number: 18201620049

Status: Unutilized

Comments: public access denied and no alternative method to gain access without compromising national security.

Reasons: Secured Area

Pennsylvania

National Energy Technology

626 Cochrans Mills Road

PO Box 10940

Pittsburgh PA 15236

Landholding Agency: GSA

Property Number: 54201620027

Status: Excess

GSA Number: 4-B-PA-0835AA

Directions: Land Holding Agency: Energy; Disposal Agency: GSA

Comments: public access denied and no alternative method to gain access without compromising national security.

Reasons: Secured Area

Rhode Island

3 Buildings

Naval Station Newport

Newport RI 02871

Landholding Agency: Navy

Property Number: 77201620030

Status: Excess

Directions: Building P30, P60 & 49

Comments: public access denied and no alternative method to gain access without compromising national security.

Reasons: Secured Area

Virginia

Tract 02-175 Machinery Storage Shed

226 Claven Lane

Middletown VA 22645

Landholding Agency: Interior

Property Number: 61201620015

Status: Excess

Comments: documented deficiencies: documentation provided represents a clear threat to personal physical safety; poor condition & structurally unsound.

Reasons: Extensive deterioration

[FR Doc. 2016-15267 Filed 6-27-16; 8:45 am]

BILLING CODE 4210-67-P